FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011840.

Title: Fruit Carriers Discussion Agreement.

Parties: Great White Fleet (U.S.) Ltd., Dole Ocean Cargo Express, Inc., Network Shipping Ltd., South Pacific Shipping Company Ltd., d/b/a Ecuadorian Line.

Synopsis: The proposed agreement would permit the parties to discuss rates and other conditions in the trade between the U.S. Atlantic, Gulf, and Pacific ranges and Costa Rica, Ecuador, El Salvador, Guatemala, Honduras, Nicaragua, and Panama.

By Order of the Federal Maritime Commission.
Dated: February 11, 2003.
Bryant L. VanBrakle,
Secretary.

[FR Doc. 03-3711 Filed 2-13-03; 8:45 am]

BILLING CODE 6730-01-P